GENERAL SERVICES ADMINISTRATION

48 CFR Parts 501, 536, and 552

[GSAR Case 2015-G506; Docket No. GSAR-2018-0013; Sequence No. 1]

RIN 3090-AJ64

General Services Administration Acquisition Regulation (GSAR); Adoption of Construction Project Delivery Method Involving Early Industry Engagement—Construction Manager as Constructor (CMc); Correction

AGENCY: Office of Acquisition Policy, General Services Administration (GSA).

ACTION: Proposed rule; Correction.

SUMMARY: The General Services Administration (GSA) is issuing a correction to GSAR Case 2015-G506; Adoption of Construction Project Delivery Method Involving Early Industry Engagement—Construction Manager as Constructor (CMc). The document heading carried an incorrect Regulatory Information Number (RIN) in the header. This document carries the correct RIN.

DATES: Comments for the proposed rule published November 8, 2018 continue to be accepted on or before January 7, 2019 to be considered in the formulation of the final rule.

ADDRESSES: Submit comments identified by GSAR Case 2015-G503 by any of the following methods:

• Regulations.gov: http://www.regulations.gov. Submit comments via the Federal eRulemaking portal by searching for “GSAR Case 2015-G506”. Select the link “Comment Now” that corresponds with GSAR Case 2015-G506. Follow the instructions provided on the screen. Please include your name, company name (if any), and “GSAR Case 2015-G506” on your attached document.

• Mail: General Services Administration, Regulatory Secretariat Division, 1800 F Street NW, ATTN: Lois Mandell Washington, DC 20405.

Instructions: Please submit comments only and cite GSAR Case 2015-G506 in all correspondence related to this case. All comments received will be posted without change to http://www.regulations.gov, including any personal and/or business confidential information provided. To confirm receipt of your comment(s), please check www.regulations.gov, approximately two to three days after submission to verify posting (except allow 30 days for posting of comments submitted by mail).

FOR FURTHER INFORMATION CONTACT: For clarification about content, contact Mr. Tony O. Hubbard, General Services Acquisition Policy Division, GSA, by phone at 202-357-5810 or by email at tony.hubbard@gsa.gov. For information pertaining to status or publication schedules, contact the Regulatory Secretariat Division by mail at 1800 F Street NW, Washington, DC 20405, or by phone at 202-501-4755. Please cite GSAR Case 2015-G506, Construction Manager as Constructor Contracting.

SUPPLEMENTARY INFORMATION: On November 8, 2018, at 83 FR 55838, GSA published a proposed rule to amend the GSAR to revise sections of GSAR Part 536, Construction and Architect-Engineer Contracts, and corresponding clauses in GSAR Part 552, Solicitation Provisions and Contract Clauses to incorporate CMc contracting. The document's heading contained the incorrect RIN, “RIN 3090-AI81”. This correct RIN is “RIN 3090-AJ64” and is contained in the heading of this correction.

Authority: 40 U.S.C. 121(c).

Dated: November 20, 2018.
Jeffrey A. Koses,
Senior Procurement Executive, Office of Acquisition Policy, Office of Government-wide Policy.

[FR Doc. 2018-25741 Filed 11-26-18; 8:45 am]

BILLING CODE 6820-61-P